DEPARTMENT OF HEALTH AND HUMAN SERVICES

National Institutes of Health

National Institute of Allergy and Infectious Diseases; Notice of Closed Meeting

Pursuant to section 10(d) of the Federal Advisory Committee Act, as amended (5 U.S.C. Appendix 2), notice is hereby given of the following meeting.

The meeting will be closed to the public in accordance with the provisions set forth in sections 552b(c)(4) and 552b(c)(6) Title U.S.C., as amended. The grant applications and/or contract proposals and the discussions could disclose confidential trade secrets or commercial property such as patentable material, and personal information concerning individuals associated with the grant applications and/or contract proposals, the disclosure of which would constitute a clearly unwarranted invasion of personal privacy.

Name of Committee: Allergy, Immunology, and Transplantation Research Committee.

Date: January 30-31, 2001.

Time: January 30, 2001, 1:30 pm to 5 pm.

Agenda: To review and evaluate grant applications.

Place: Monterey Beach Hotel, 2600 Sand Dunes Drive, Monterey, CA 93940.

Time: January 31, 2001, 8:00 am to adjournment.

Agenda: To review and evaluate grant applications.

Place: Monterey Beach Hotel, 2600 Sand Dunes Drive, Monterey, CA 93940.

Contact Person: Ken Wasserman, PHD, Scientific Review Administrator, Scientific Review Program; Division of Extramural Activities, NIAID, NIH, Room 2217, 6700-B Rockledge Drive, 7610, Bethesda, MD, 301 496-2550, kw159p@nih.gov.

(Catalog of Federal Domestic Assitance Program Nos. 93.855, Allergy, Immunology, and Transplantation Research; 93.856, Microbiology and Infectious Diseases Research, National Institutes of Health, HHS)
Dated: January 5, 2001.
LaVerne Y. Stringfield,
Director, Office of Federal Advisory Comittee Policy.

[FR Doc. 01-960 Filed 1-11-01; 8:45 am]

BILLING CODE 4140-01-M